FEDERAL ACCOUNTING STANDARDS ADVISORY BOARD

Notice of Issuance of Exposure Draft on Implementation Guidance on General Property, Plant, and Equipment Cost Accumulation, Assignment, and Allocation

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Accounting and Auditing Policy Committee (AAPC) has issued a Federal Financial Accounting Technical Release Exposure Draft entitled Implementation Guidance on General Property, Plant, and Equipment Cost Accumulation, Assignment, and Allocation.

The Exposure Draft is available on the FASAB Web site: http://www.fasab.gov/board-activities/documents-for-comment/exposure-drafts-and-documents-for-comment/.

Copies can be obtained by contacting FASAB at (202) 512-7350.

Respondents are encouraged to comment on any part of the exposure draft. Written comments are requested by May 1, 2013, and should be sent to: Wendy M. Payne, Executive Director, Federal Accounting Standards Advisory Board, 441 G Street NW., Suite 6814, Mail Stop 6H19, Washington, DC 20548.

FOR FURTHER INFORMATION CONTACT: Wendy Payne, Executive Director, at (202) 512-7350.

Authority: Federal Advisory Committee Act, Pub. L. 92-463.

Dated: March 4, 2013.
Charles Jackson,
Federal Register Liaison Officer.

[FR Doc. 2013-05348 Filed 3-6-13; 8:45 am]

BILLING CODE 1610-02-P